NATIONAL SCIENCE FOUNDATION

Notice of Permit Applications Received Under the Antarctic Conservation Act of 1978

AGENCY: National Science Foundation.

ACTION: Notice of Permit Applications Received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by September 2, 2022. This application may be inspected by interested parties at the Permit Office, address below.

ADDRESSES: Comments should be addressed to Permit Office, Office of Polar Programs, National Science Foundation, 2415 Eisenhower Avenue, Alexandria, Virginia 22314 or ACApermits@nsf.gov.

FOR FURTHER INFORMATION CONTACT: Andrew Titmus, ACA Permit Officer, at the above address, 703-292-4479.

SUPPLEMENTARY INFORMATION: The National Science Foundation, as directed by the Antarctic Conservation Act of 1978 (Pub. L. 95-541, 45 CFR 671) as amended by the Antarctic Science, Tourism and Conservation Act of 1996, has developed regulations for the establishment of a permit system for various activities in Antarctica and designation of certain animals and certain geographic areas as requiring special protection. The regulations establish such a permit system to designate Antarctic Specially Protected Areas.

Application Details

Permit Application: 2023-006

1. Applicant: Lee Welhouse, University of Wisconsin-Madison Space Science and Engineering Center, Madison, WI 53706

Activity for Which Permit Is Requested

Enter Antarctic Specially Protected Area (ASPA). The applicant seeks an Antarctic Conservation Act permit authorizing entry into ASPA 106—Cape Hallett, Northern Victoria Land for a single period of 4-6 hours. The Antarctic Meteorological Research and Data Center has maintained a weather station in this ASPA since 2007. This entry would be to perform routine maintenance and upkeep that is necessary approximately every 3 years.

Location

ASPA 106—Cape Hallett, Northern Victoria Land.

Dates of Permitted Activities

November 1, 2022-December 1, 2022.

Permit Application: 2023-007

2. Applicant: Dr. Natasja van Gestel, Texas Tech University Biological Sciences Department, Lubbock, TX 79409

Activity for Which Permit Is Requested

Take, Enter Antarctic Specially Protected Area (ASPA), import into USA. The applicant seeks an Antarctic Conservation Act permit authorizing entry to ASPA 113—Litchfield Island, Arthur Harbor, to study Antarctic soils, microbial communities, and vegetation. The applicant would access the site weekly between the period of December 1-March 31 for four consecutive seasons between December 2022 and March 2026. The applicant proposes to conduct warming experiments on the soil and plants using five 1m² soil warming chambers that will also log soil moisture, temperature, and microclimate data. The applicant proposes to collect up to 100 small soil cores, 15 samples of plants of Polytrichum species, 15 samples of plants of Chorisodontium species, and 15 samples of various other moss species per year which would be brought back to Palmer Station for temperature incubation experiments. At the conclusion of the temperature experiments, the applicant would import all collected specimens back to the home institution for herbarium curation.

Location

ASPA 113, Litchfield Island, Arthur Harbor.

Dates of Permitted Activities

December 1, 2022-March 31, 2026.

Erika N. Davis,
Program Specialist, Office of Polar Programs.

[FR Doc. 2022-16576 Filed 8-2-22; 8:45 am]

BILLING CODE 7555-01-P